GENERAL SERVICES ADMINISTRATION

Office of Governmentwide Policy; Cancellation of an Optional Form by the Department of State

AGENCY: General Services Administration.

ACTION: Notice.

SUMMARY: The Department of State has cancelled the following Optional Form: OF 141, Application for Service Credit. This form is now a State Department form (DS-5001). You can request copies of the new form from: Department of State, A/RPS/DIR, SA-22, 18th and G Streets, NW., Room 2400, Washington, DC 20522-2201.

FOR FURTHER INFORMATION CONTACT: Mr. Charles Cunningham, Department of State, 202 312-9605.

DATES: Effective March 16, 2004.

Dated: March 5, 2004.
Barbara M. Williams,
Deputy Standard and Optional Forms Management Officer, General Services Administration.

[FR Doc. 04-5879 Filed 3-15-04; 8:45 am]

BILLING CODE 6820-34-M